DEPARTMENT OF ENERGY

Federal Energy Regulatory Commission

[Docket No. ER01-1771-001]

Idaho Power Company; Notice of Filing

May 8, 2001.

Take notice that on April 25, 2001, Idaho Power Company (Idaho Power) tendered for filing under its Market-Based Rates Tariff the First Amendment to the Power Purchase Agreement between Idaho Power, Doing Business as IDACORP Energy, and the City of Oakland, California, Acting by and through Its Board of Port Commissioners, for Wholesale Electricity Supply and Related Services at the Metropolitan Oakland International Airport and at the Former FISCO Facilities, dated February 8, 2001 and executed February 27, 2001.

Idaho Power requests an effective date of February 1, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 16, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11971 Filed 5-11-01; 8:45 am]

BILLING CODE 6717-01-M